DEPARTMENT OF THE TREASURY

United States Mint

Pricing for the 2014 American Eagle One Ounce Silver Proof Coin

AGENCY: United States Mint, Department of the Treasury.

ACTION: Notice.

SUMMARY: The United States Mint is announcing a price reduction for the 2014 American Eagle One Ounce Silver Proof Coin. The price of the American Eagle One Ounce Silver Proof Coin will be lowered from $52.95 to $48.95.

FOR FURTHER INFORMATION CONTACT: Marc Landry, Acting Associate Director for Sales and Marketing; United States Mint; 801 9th Street NW., Washington, DC 20220; or call 202-354-7500.

Authority: 31 U.S.C. 5111, 5112 & 9701.

Dated: December 15, 2014.
Richard A. Peterson,
Deputy Director, United States Mint.

[FR Doc. 2014-29713 Filed 12-18-14; 8:45 am]

BILLING CODE P